DEPARTMENT OF HEALTH AND HUMAN SERVICES

National Institutes of Health

Partnering for Research: CAM Practitioners and Cancer Researchers Conference

AGENCY: National Cancer Institute (NCI), National Institutes of Health (NIH), Department of Health and Human Services (HHS).

ACTION: Notice; request for public comment.

SUMMARY: In compliance with the provisions of Section 3506(c)(2)(A) of the Paperwork Reduction Act of 1995, for opportunity for public comments on proposed data collection projects, the National Institutes of Health (NIH), National Cancer Institute (NCI) will publish periodic summaries of proposed projects to be submitted to the Office of Management and Budget (OMB) for review and approval.

DATES: The Partnering for Research: CAM Practitioners and Cancer Researchers Conference public comment period will run from May 1, 2007 to June 1, 2007.

ADDRESSES: Comments may be submitted electronically at http://www.cancer.gov/cam.

Background: Title: Partnering for Research: CAM Practitioners and Cancer Researchers Conference. Type of Information Collection Request: New. Need and Use of Information Collection: OCCAM has long recognized that successful cancer CAM research requires strong interdisciplinary partnerships between a practitioner of a specific unconventional therapy and researchers with experience and resources to perform prospective clinical cancer research. OCCAM will be hosting a two-day conference in an attempt to learn about the factors that influence functional and non-functional collaborations between these two groups of cancer CAM stakeholders. The information gathered in this public comment session will assist OCCAM in the development and planning of the aforementioned conference.

Request for Comments: Written comments and/or suggestions from the public and affected agencies are invited on the following points: (a) Examples of both successful and unsuccessful research collaborations between CAM practitioners and researchers, and (b) Issues concerning research collaborations between CAM practitioners and researchers that should be addressed at the upcoming meeting.

Dated: April 13, 2007.
Shea Buckman,
NCI OCCAM Communications and Outreach Manager, National Institutes of Health.

[FR Doc. E7-7786 Filed 4-23-07; 8:45 am]

BILLING CODE 4140-01-P